FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010168-021.

Title: New Caribbean Service Rate Agreement.

Parties: CMA CGM, S.A.; Hapag-Lloyd Container Linie GmbH; Hamburg-Südamerikanische Dampfschifffahrts-Gesellschaft KG; and Compania Sud Americana de Vapores, S.A.

Filing Party: Wayne R. Rohde, Esq.; Sher & Blackwell; 1850 M Street, NW., Suite 900; Washington, DC 20036.

Synopsis: The amendment deletes P&O Nedlloyd Limited/P&O Nedlloyd B.V. as parties to the agreement.

Agreement No.: 011632-005.

Title: Turkey/United States Rate Agreement.

Parties: Farrell Lines, Inc. and Turkon Container Transport & Shipping, Inc.

Filing Party: Wayne R. Rohde, Esq.; Sher & Blackwell LLP; 1850 M Street NW., Suite 900; Washington, DC 20036.

Synopsis: The amendment adds a new Article 18 that will terminate agreement authority effective December 16, 2005, except for the performance of existing agreement service contracts and the winding up of the affairs of the agreement.

Agreement No.: 011865-003.

Title: CMA-CGM/LT Amerigo Express/MUS Cross Space Charter, Sailing and Cooperative Working Agreement.

Parties: CMA-CGM, S.A. and Lloyd Triestino di Navigazione S.p.A.

Filing Party: Paul M. Keane, Esq.; Cichanowicz, Callan, Keane, Vengrow & Textor, LLP; 61 Broadway; Suite 3000; New York, NY 10006-2802.

Synopsis: The amendment provides for increases in vessel size and changes in the provision of vessels up to the end of 2006, and extends the agreement to June 11, 2007.

By Order of the Federal Maritime Commission.
Dated: November 18, 2005.
Bryant L. VanBrakle,
Secretary.

[FR Doc. 05-23179 Filed 11-22-05; 8:45 am]

BILLING CODE 6730-01-P